ENVIRONMENTAL PROTECTION AGENCY

[ FRL-8944-2 ]

Proposed CERCLA Administrative Settlement; Circle DE Lumber Site, Klamath Falls, OR

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement for the recovery of past response costs incurred at the Circle DE Lumber Site in Klamath Falls, Oregon with settling parties: Mr. and Mrs. Daniel G. and V. Elouise Brown and associated entities including the Circle DE Lumber Company, Francis D. Brown and Son Logging, Inc., and the Daniel G. Brown Trust U.T.A.D. and Elouise Brown Trust U.T.A.D. The settlement requires the settling parties to implement institutional controls in the form of proprietary restrictions placed on the Circle DE Lumber Site, and to execute an Environmental Trust Agreement that assigns the rights under certain insurance policies issued to the settling parties to an environmental trust established for the benefit of the Agency. The settlement includes a covenant not to sue or take administrative action against the settling parties pursuant to Sections 106 or 107(a) of CERCLA, 42 U.S.C. 9606 or 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before September 11, 2009.

ADDRESSES: The proposed settlement is available for public inspection at the U.S. EPA Region 10 offices, located at 1200 Sixth Avenue, Seattle, Washington 98101. A copy of the proposed settlement may be obtained from Carol Kennedy, Regional Hearing Clerk, U.S. EPA Region 10, Mail Stop ORC-158, 1200 Sixth Avenue, Suite 900, Seattle, Washington 98101; (206) 553-0242. Comments should reference the Circle DE Lumber Site in Klamath Falls, Oregon, EPA Docket No. CERCLA-10-2009-0211 and should be addressed to Alexander Fidis, Assistant Regional Counsel, U.S. EPA Region 10, Mail Stop ORC-158, 1200 Sixth Avenue, Suite 900, Seattle, Washington 98101.

FOR FURTHER INFORMATION CONTACT: Alexander Fidis, Assistant Regional Counsel, U.S. EPA Region 10, Mail Stop ORC-158, 1200 Sixth Avenue, Suite 900, Seattle, Washington 98101; (206) 553-4710.

SUPPLEMENTARY INFORMATION: The Circle DE Lumber Site is located in Klamath Falls, Oregon (Site). Wood treating operations were conducted at the Site using a dip tank containing pentachlorophenol. These operations and others resulted in the release of hazardous substances including, but not limited to, pentachlorophenol, dioxin, diesel, poly aromatic hydrocarbons, total petroleum hydrocarbons, and metals. These hazardous substances were detected in soil and groundwater at the Site. The Agency conducted a time-critical removal action at the Site in February 2006 that involved removing the dip tank and associated structures, excavation and disposal of 437 cubic yards of contaminated soil, and the installation of monitoring wells to determine the extent of groundwater contamination. The Agency incurred approximately $605,834 in response costs at the Site.

The Site is currently owned by Mr. and Mrs. Daniel G. and V. Elouise Brown. Mr. Brown operated the Site as a lumber mill between 1975 and 2000 and currently leases the Site as a staging area for equipment. The entities associated with Mr. Brown's Site operations include the Circle DE Lumber Company and Francis D. Brown & Son Logging, Inc. The Agency determined that settling parties have limited financial ability to pay the response costs incurred at the Site. Therefore, the Agency is proposing to enter into an administrative settlement that would require the settling parties to record an easement and equitable servitude as an institutional control for the Site, and to execute an agreement assigning the rights under certain insurance policies issued to the settling parties to an Environmental Trust established for the benefit of the Agency. The proposed settlement will release the settling parties from liability for past response costs incurred by the Agency subject to certain reserved rights.

Dated: August 3, 2009.
Daniel D. Opalski,
Director, Office of Environmental Cleanup.

[FR Doc. E9-19304 Filed 8-11-09; 8:45 am]

BILLING CODE 6560-50-P